DEPARTMENT OF TRANSPORTATION

Federal Highway Administration

Buy America Waiver Notification

AGENCY: Federal Highway Administration (FHWA), DOT.

ACTION: Notice.

SUMMARY: This notice provides information regarding the FHWA's finding that a Buy America waiver is appropriate for the use of five non-domestic 14” class 150 cast steel gate valves for rehabilitation of the Oxbow Bridge project in the State of Ohio.

DATES: The effective date of the waiver is September 11, 2013.

FOR FURTHER INFORMATION CONTACT: For questions about this notice, please contact Mr. Gerald Yakowenko, FHWA Office of Program Administration, (202) 366-1562, or via email at gerald.yakowenko@dot.gov. For legal questions, please contact Mr. Michael Harkins, FHWA Office of the Chief Counsel, (202) 366-4928, or via email at michael.harkins@dot.gov. Office hours for the FHWA are from 8:00 a.m. to 4:30 p.m., e.t., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available. This notice provides information regarding the FHWA's finding that a Buy America waiver is appropriate to use five non-domestic 14″ class 150 cast steel gate valves for rehabilitation of the Oxbow Bridge project in the State of Ohio.

In accordance with Division A, section 122 of the “Consolidated and Further Continuing Appropriations Act, 2012” (Pub. L. 112-55), the FHWA published a notice of intent to issue a waiver on its Web site for five 14″ class 150 cast steel gate valves for rehabilitation of the Oxbow Bridge project in the State of Ohio (http://www.fhwa.dot.gov/construction/contracts/waivers.cfm?id=86) on March 25th. The FHWA received no comments in response to the publication. The Manufacturing Extension Partnership (MEP)—a program of the U.S. Department of Commerce National Institute of Standards and Technology—conducted a Supplier Scouting analysis of domestic manufacturing capabilities and capacity for the production of the five 14″ class 150 cast steel gate valves for the bridge rehabilitation project in the State of Ohio. The MEP identified some domestic suppliers capable of casting part of the steel gate valve but not the complete 14″ class 150 cast steel gate valve. However, the Ohio Department of Transportation's coordination with these identified suppliers found that these entities could not supply the specified product. During the 15-day comment period, the FHWA conducted additional nationwide review to locate potential domestic manufacturers of the five 14″ class 150 cast steel gate valves. Based on all the information available to the agency, the FHWA concludes that there are no domestic manufacturers of the five 14″ class 150 cast steel gate valves.

In accordance with the provisions of section 117 of the SAFETEA-LU Technical Corrections Act of 2008 (Pub. L. 110-244, 122 Stat. 1572), the FHWA is providing this notice as its finding that a waiver of Buy America requirements is appropriate. The FHWA invites public comment on this finding for an additional 15 days following the effective date of the finding. Comments may be submitted to the FHWA's Web site via the link provided to the Ohio waiver page noted above.

Authority: 23 U.S.C. 313; Pub. L. 110-161, 23 CFR 635.410.

Issued on: August 30, 2013.
Victor M. Mendez,
FHWA Administrator.

[FR Doc. 2013-21984 Filed 9-9-13; 8:45 am]

BILLING CODE 4910-22-P